DEPARTMENT OF TRANSPORTATION

Federal Highway Administration

Agency Information Collection Activities; Request for Comments; Clearance of a New Information Collection; Freight Planning Noteworthy Practices

AGENCY: Federal Highway Administration (FHWA), DOT.

ACTION: Notice and request for comments.

SUMMARY: The FHWA has forwarded the new information collection request described in this notice to the Office of Management and Budget (OMB) for review and approval. We published a Federal Register notice with a 60-day public comment period on this information collection on August 10, 2004 (69 FR 48556). We are required to publish this notice in the Federal Register by the Paperwork Reduction Act of 1995.

DATES: Please submit comments by May 9, 2005.

FOR FURTHER INFORMATION CONTACT: Ms. Eloise Freeman-Powell, (202) 366-2068, Office of Planning, Federal Highway Administration, Department of Transportation, 400 Seventh Street, SW., Washington, DC 20590-0001. Office hours are from 8 a.m. to 4:30 p.m., Monday through Friday, except Federal holidays.

SUPPLEMENTARY INFORMATION: Title: Freight Planning Noteworthy Practices.

Background: The FHWA plans to update its Freight Planning Web site by adding a new feature that will collect information and photographs about freight planning activities from the FHWA's public sector partners. This information will be reviewed by the FHWA on a monthly basis to determine which project will be posted on the Web site as an informational and educational tool for the FHWA's public sector audiences that are engaged in freight planning activities and/or are beginning to develop their freight planning activities. State Departments of Transportation, metropolitan planning organizations, and local government agencies will provide a description of case studies on freight planning and implementation, which can include plans or projects, or both.

Respondents: State Departments of Transportation, metropolitan planning organizations, and local government agencies.

Estimated Total Annual Burden: It is estimated that each State Department of Transportation, metropolitan planning organization, and local government agency will spend about one hour to prepare and to provide their freight plans or projects to the FHWA. The estimated total annual burden is 60 hours.

Frequency: On-going basis.

ADDRESSES: You may send comments to the Office of Information and Regulatory Affairs, Office of Management and Budget, 725 17th Street, NW., Washington, DC 20503, Attention: DOT Desk Officer. You are asked to comment on any aspect of this information collection, including: (1) Whether the proposed collection is necessary for the FHWA's performance; (2) the accuracy of the estimated burden; (3) ways for the FHWA to enhance the quality, usefulness, and clarity of the collected information; and (4) ways that the burden could be minimized, including the use of electronic technology, without reducing the quality of the collected information.

Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78), or you may visit http://dms.dot.gov.

Authority: The Paperwork Reduction Act of 1995; 44 U.S.C. Chapter 35, as amended; and 49 CFR 1.48.

Issued on: March 21, 2005.
James R. Kabel,
Chief, Management Programs, and Analysis Division.

[FR Doc. 05-6951 Filed 4-6-05; 8:45 am]

BILLING CODE 4910-22-P